DEPARTMENT OF COMMERCE

National Oceanic and Atmospheric Administration

15 CFR Part 922

Initiation of Review of the Management Plan/Regulations of the Thunder Bay National Marine Sanctuary; Intent To Prepare Draft Environmental Impact Statement and Management Plan; Scoping Meetings

AGENCY: National Marine Sanctuary Program (NMSP), National Ocean Service (NOS), National Oceanic and Atmospheric Administration (NOAA), Department of Commerce (DOC).

ACTION: Initiation of Review of Management Plan/Regulations; Intent to Prepare Environmental Impact Statement; Scoping Meetings.

SUMMARY: Thunder Bay National Marine Sanctuary (TBNMS or Sanctuary) was designated on October 7, 2000. The present management plan was written as part of the sanctuary designation process and published in the Final Environmental Impact Statement in 1999. In accordance with section 304(e) of the National Marine Sanctuaries Act, as amended, (NMSA) (16 U.S.C. 1431 et seq.), the National Marine Sanctuary Program (NMSP) of the National Oceanic and Atmospheric Administration (NOAA) is initiating a review of the management plan, to evaluate substantive progress toward implementing the goals for the Sanctuary, and to make revisions to the plan and regulations as necessary to fulfill the purposes and policies of the NMSA.

The proposed revised management plan will likely involve changes to existing policies and regulations of the Sanctuary, to address contemporary issues and challenges, and to better protect and manage the Sanctuary's resources and qualities. The review process is composed of four major stages: information collection and characterization; preparation and release of a draft management plan/environmental impact statement, and any proposed amendments to the regulations; public review and comment; and preparation and release of a final management plan/environmental impact statement, and any final amendments to the regulations. NOAA anticipates completion of the revised management plan and concomitant documents will require approximately eighteen to twenty-four months.

NOAA will conduct public scoping meetings to gather information and other comments from individuals, organizations, and government agencies on the scope, types and significance of issues related to the Sanctuary's management plan and regulations. The scoping meetings are scheduled for September 25, 26, 28 and 29, 2006, as detailed below.

DATES: Written comments should be received on or before October 13, 2006.

Scoping meetings will be held at:

(1) September 25, 6:30 p.m., Presque Isle, MI.

(2) September 26, 6:30 p.m., Alpena, MI.

(3) September 28, 6:30 p.m., Alcona, MI.

(4) September 29, 1 p.m., Lansing, MI.

ADDRESSES: Written comments may be sent to the Thunder Bay National Marine Sanctuary (Management Plan Review), 500 West Fletcher Street, Alpena, MI, 49707. Comments will be available for public review at the same address:

Scoping meetings will be held at:

(1) Presque Isle District Library, 181 East Erie Street, Rogers City, MI 49779.

(2) Great Lakes Maritime Heritage Center, 500 West Fletcher Street, Alpena, MI 49707.

(3) Harrisville Courthouse, 106 North 5th Street, Harrisville, MI 48740.

(4) Michigan Historical Center, 702 West Kalamazoo Street, Lansing, MI 48909.

FOR FURTHER INFORMATION CONTACT: Tera Panknin, 989-356-8805 Ext. 38, TBMPR@noaa.gov.

Authority: 16 U.S.C. Section 1431 et seq.

(Federal Domestic Assistance Catalog Number 11.429 Marine Sanctuary Program)
Dated: August 28, 2006.
Daniel J. Basta,
Director, National Marine Sanctuary Program.

[FR Doc. 06-7480 Filed 9-6-06; 8:45 am]

BILLING CODE 3510-08-M